DEPARTMENT OF LABOR

Employment and Training Administration

[TA-W-50,497]

C-Cor.Net, Philips Broadband Networks, Manlius, NY, Including Employees of C-Cor.Net Located in the States of Minnesota, Washington, Texas, Ohio and Colorado; Amended Certification Regarding Eligibility To Apply for Worker Adjustment Assistance

In accordance with section 223 of the Trade Act of 1974 (19 U.S.C. 2273) the Department of Labor issued a Certification of Eligibility to Apply for Worker Adjustment Assistance on March 5, 2003, applicable to workers of C-Cor.Net, Manlius, New York. The notice was published in the Federal Register on March 19, 2003 (68 FR 13332).

At the request of the State agency, the Department reviewed the certification for workers of the subject firm. The workers are engaged in the production of broadband communication products.

New information shows that C-Cor.Net purchased Philips Broadband Networks on September 16, 2002 and that workers separated from employment at the subject firm between January, 2002 and September 16, 2002 had their wages reported under a separate unemployment insurance (UI) tax account for Philips Broadband Networks. Information also shows that worker separations occurred involving employees of the Manlius, New York facility of the subject firm located in Minnesota, Washington, Texas, Ohio and Colorado. These employees provided sales function services for the production of broadband communication products at the Manlius, New York location of the subject firm.

Accordingly, the Department is amending the certification to properly reflect this matter.

The intent of the Department's certification is to include all workers of C-Cor.Net, Manlius, New York who were adversely affected by increased imports.

The amended notice applicable to TA-W-50,497 is hereby issued as follows:

All workers of C-Cor.Net, Philips Broadband Networks, Manlius, New York, including employees of C-Cor.Net, Manlius, New York, located in Minnesota, Washington, Texas, Ohio and Colorado, who became totally or partially separated from employment on or after January 2, 2002, through March 5, 2005, are eligible to apply for adjustment assistance under Section 223 of the Trade Act of 1974.

Signed at Washington, DC, this 10th day of April, 2003.
Richard Church,
Certifying Officer, Division of Trade Adjustment Assistance.

[FR Doc. 03-10138 Filed 4-23-03; 8:45 am]

BILLING CODE 4510-30-P